DEPARTMENT OF AGRICULTURE

Farm Service Agency

Information Collection; Disaster Assistance (General)

AGENCY: Farm Service Agency, USDA.

ACTION: Notice; request for comment.

SUMMARY: In accordance with the Paperwork Reduction Act of 1995, the Farm Service Agency (FSA) is seeking comments from all interested individuals and organizations on an extension and revision of a currently approved information collection associated with Disaster Assistance programs. The information collection is needed to identify disaster areas and establish eligibility for both primary and contiguous counties for assistance from FSA. This assistance includes FSA emergency loans and the Supplemental Revenue Assistance Payments (SURE) program (required by the 2008 Farm Bill) that are available to eligible and qualified farmers and ranchers. SURE provides assistance to eligible producers who suffered crop production or crop quality losses, or both due to natural disaster. The total burden hours have been revised to reflect the number of Secretarial requests for natural disaster assistance during the 2008 crop year.

DATES: Comments must be received on or before November 16, 2009. Comments received after that date will be considered to the extent practicable.

ADDRESSES: We invite you to submit comments on this notice. In your comments, include date, volume, and page number of this issue of the Federal Register. You may submit comments by any of the following methods:

• Mail: Candance Thompson, Acting Director, Production, Emergencies and Compliance Division, to Farm Service Agency, USDA, Mail Stop 0517, 1400 Independence Avenue, SW., Washington, DC 20250-0517

• E-mail: Candy.Thompson@wdc.usda.gov.

• Fax: (202) 690-2130.

You may also send comments to the Desk Officer for Agriculture, Office of Information and Regulatory Affairs, Office of Management and Budget, Washington, DC 20503. Copies of the information collection may be requested by contacting Candance Thompson at the above addresses.

FOR FURTHER INFORMATION CONTACT: Steve Peterson, Branch Chief, Disaster Assistance Branch, (202) 720-5172.

SUPPLEMENTARY INFORMATION:

Description of Information Collection

Title: Disaster Assistance Program (General).

OMB Number: 0560-0170.

Expiration Date of Approval: February 28, 2010.

Type of Request: Extension with revision.

Abstract: The information collection is necessary for FSA to effectively administer the regulations relating to identifying disaster areas for the purpose of making emergency loans and administering the SURE program. These programs are available to qualified and eligible farmers and ranchers who have suffered weather-related physical or production losses or both in such areas. Before emergency loans or payments under SURE can be made, the information needs to be collected to determine if the disaster areas meet the criteria of having a qualifying loss in order to be considered as an eligible County.

Estimated of Burden: Average 0.483 hour per response.

Type of Respondents: Farmers and ranchers.

Estimated Annual Number of Respondents: 1,831.

Estimated Annual Number of Responses per Respondent: 1.

Estimated Total Annual Burden on Respondents: 883.

We are requesting comments on all aspects of this information collection, including the following to help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed in Washington, DC, on September 3, 2009.
Jonathan W. Coppess,
Administrator, Farm Service Agency.

[FR Doc. E9-22116 Filed 9-14-09; 8:45 am]

BILLING CODE 3410-05-P